DEPARTMENT OF ENERGY

Federal Energy Regulatory Commission

Combined Notice of Filings #1

Take notice that the Commission received the following electric corporate filings:

Docket Numbers: EC14-62-000.

Applicants: K Road Modesto Solar LLC.

Description: Application for Authority under Section 203 of the Federal Power Act and Request for Expedited Action of K Road Modesto Solar LLC.

Filed Date: 3/3/14.

Accession Number: 20140303-5107.

Comments Due: 5 p.m. ET 3/24/14.

Take notice that the Commission received the following electric rate filings:

Docket Numbers: ER10-2819-002.

Applicants: ALLETE, Inc.

Description: Notice of Non-Material Change in Status of ALLETE, Inc.

Filed Date: 2/28/14.

Accession Number: 20140228-5319.

Comments Due: 5 p.m. ET 3/21/14.

Docket Numbers: ER14-1135-001.

Applicants: Renewable Power Direct, LLC.

Description: Original Volume No. 1 to be effective 4/1/201.

Filed Date: 3/4/14.

Accession Number: 20140304-5070.

Comments Due: 5 p.m. ET 3/25/14.

Docket Numbers: ER14-1224-001.

Applicants: Duke Energy Carolinas, LLC.

Description: Defer effective date and proceeding PMPA NITSA to be effective 12/31/9998.

Filed Date: 3/4/14.

Accession Number: 20140304-5048.

Comments Due: 5 p.m. ET 3/25/14.

Docket Numbers: ER14-1302-001.

Applicants: Seminole Retail Energy Services, L.L.C.

Description: Ministerial Compliance Filing to be effective 3/10/2014.

Filed Date: 3/4/14.

Accession Number: 20140304-5060.

Comments Due: 5 p.m. ET 3/25/14.

Docket Numbers: ER14-1363-001; ER10-3195-002; ER10-3194-002.

Applicants: Kendall Green Energy LLC, MATEP Limited Partnership, MATEP LLC.

Description: Notice of Change in Status of Kendall Green Energy LLC, et. al.

Filed Date: 2/28/14.

Accession Number: 20140228-5317.

Comments Due: 5 p.m. ET 3/21/14.

Docket Numbers: ER14-1393-000.

Applicants: Southwest Power Pool, Inc.

Description: 2816 Exelon Generation Company and SPS Meter Agent Agreement to be effective 3/1/2014.

Filed Date: 2/28/14.

Accession Number: 20140228-5257.

Comments Due: 5 p.m. ET 3/21/14.

Docket Numbers: ER14-1394-000.

Applicants: PJM Interconnection, L.L.C.

Description: Revisions to the OA Schedule 6 Section 1.5.7 re Market Efficiency Rules to be effective 4/30/2014.

Filed Date: 2/28/14.

Accession Number: 20140228-5268.

Comments Due: 5 p.m. ET 3/21/14.

Docket Numbers: ER14-1395-000.

Applicants: Southwest Power Pool, Inc.

Description: 2852 The Energy Authority & Westar Meter Agent Agreement to be effective 3/1/2014.

Filed Date: 2/28/14.

Accession Number: 20140228-5274.

Comments Due: 5 p.m. ET 3/21/14.

Docket Numbers: ER14-1396-000.

Applicants: Quantum Auburndale Power, LP.

Description: Quantum Auburndale Power, LP Revised Electric Tariff Filing to be effective 3/1/2014.

Filed Date: 2/28/14.

Accession Number: 20140228-5275.

Comments Due: 5 p.m. ET 3/21/14.

Docket Numbers: ER14-1397-000.

Applicants: Storm Lake Power Partners II, LLC.

Description: Storm Lake Power Partners II, LLC MBR Tariff Filing to be effective 4/29/2014.

Filed Date: 2/28/14.

Accession Number: 20140228-5279.

Comments Due: 5 p.m. ET 3/21/14.

Docket Numbers: ER14-1398-000.

Applicants: Public Service Company of Colorado.

Description: 2014-2-28_PSCo TSGT-Op and Maint-340-0.0.0 to be effective 4/30/2014.

Filed Date: 2/28/14.

Accession Number: 20140228-5297.

Comments Due: 5 p.m. ET 3/21/14.

Docket Numbers: ER14-1399-000.

Applicants: New England Power Pool Participants Committee.

Description: March 2014 Membership Filing to be effective 3/1/2014.

Filed Date: 2/28/14.

Accession Number: 20140228-5302.

Comments Due: 5 p.m. ET 3/21/14.

Docket Numbers: ER14-1400-000.

Applicants: Seneca Generation, LLC.

Description: Reactive Service Rate Schedule Filing to be effective 3/1/2014.

Filed Date: 2/28/14.

Accession Number: 20140228-5313.

Comments Due: 5 p.m. ET 3/21/14.

Docket Numbers: ER14-1401-000.

Applicants: Appalachian Power Company, American Electric Power Service Corporation, Duke Energy Carolinas, LLC, Duke Energy Progress, Inc., PJM Interconnection, L.L.C.

Description: APCo (AEP) submits Service Agreement Nos. 3773 and 3774—IAs with DEP and DEC to be effective 3/1/2014.

Filed Date: 2/28/14.

Accession Number: 20140228-5314.

Comments Due: 5 p.m. ET 3/21/14.

Docket Numbers: ER14-1402-000.

Applicants: Southwestern Electric Power Company.

Description: SWEPCO-Rayburn PSA Amendment SPP Integrated Market to be effective 3/1/2014.

Filed Date: 3/3/14.

Accession Number: 20140303-5013.

Comments Due: 5 p.m. ET 3/24/14.

Docket Numbers: ER14-1405-000.

Applicants: PJM Interconnection, L.L.C.

Description: Revisions to the MISO-PJM JOA re: Consistent Import and Export Treatment to be effective 6/1/2014.

Filed Date: 3/3/14.

Accession Number: 20140303-5025.

Comments Due: 5 p.m. ET 3/24/14.

Docket Numbers: ER14-1406-000.

Applicants: Midcontinent Independent System Operator.

Description: 2014-03-03_MISO-SPP JOA Filing to be effective 6/1/2014.

Filed Date: 3/3/14.

Accession Number: 20140303-5026.

Comments Due: 5 p.m. ET 3/24/14.

Docket Numbers: ER14-1407-000.

Applicants: Southwest Power Pool, Inc.

Description: SPP-MISO JOA CMP and Article 19 Revisions to be effective 6/1/2014.

Filed Date: 3/3/14.

Accession Number: 20140303-5027.

Comments Due: 5 p.m. ET 3/24/14.

Docket Numbers: ER14-1408-000.

Applicants: American Electric Power Service Corporation, Appalachian Power Company, Kentucky Power Company, Kingsport Power Company, Ohio Power Company, Wheeling Power Company, AEP Appalachian Transmission Company, In, AEP Indiana Michigan Transmission Company, AEP Kentucky Transmission Company, Inc, AEP Ohio Transmission Company, Inc. Indiana Michigan Power Company, PJM Interconnection, L.L.C.

Description: AEP submits revisions to PJM OATT Att H-14 & H-20A re updated depreciation rates to be effective 7/1/2014.

Filed Date: 3/3/14.

Accession Number: 20140303-5030.

Comments Due: 5 p.m. ET 3/24/14.

Docket Numbers: ER14-1409-000.

Applicants: ISO New England Inc.

Description: Eighth Forward Capacity Auction Results Filing of ISO New England Inc.

Filed Date: 2/28/14.

Accession Number: 20140228-5324.

Comments Due: 5 p.m. ET 4/14/14.

Docket Numbers: ER14-1410-000.

Applicants: Duke Energy Carolinas, LLC.

Description: Interconnection Agreement with APCo-DEC (2) to be effective 3/1/2014.

Filed Date: 3/4/14.

Accession Number: 20140304-5026.

Comments Due: 5 p.m. ET 3/25/14.

Docket Numbers: ER14-1411-000.

Applicants: Duke Energy Progress, Inc.

Description: Interconnection Agreement with APCo-DEP(2) to be effective 3/1/2014.

Filed Date: 3/4/14.

Accession Number: 20140304-5027.

Comments Due: 5 p.m. ET 3/25/14.

Docket Numbers: ER14-1412-000.

Applicants: Midcontinent Independent System Operator, Inc., Alliant Energy Corporate Services, Inc.

Description: 2014-03-04_SA 2636 IPL-RPGI DAF Agreement to be effective 1/1/2014.

Filed Date: 3/4/14.

Accession Number: 20140304-5043.

Comments Due: 5 p.m. ET 3/25/14.

Docket Numbers: ER14-1413-000.

Applicants: Southwest Power Pool, Inc.

Description: 1166R20 Oklahoma Municipal Power Authority NITSA and NOA to be effective 2/1/2014.

Filed Date: 3/4/14.

Accession Number: 20140304-5054.

Comments Due: 5 p.m. ET 3/25/14.

Docket Numbers: ER14-1414-000.

Applicants: Southwest Power Pool, Inc.

Description: 2198R15 Kansas Power Pool NITSA NOA to be effective 2/1/2014.

Filed Date: 3/4/14.

Accession Number: 20140304-5058.

Comments Due: 5 p.m. ET 3/25/14.

Docket Numbers: ER14-1415-000.

Applicants: Southwest Power Pool, Inc.

Description: 2028R7 Sunflower Electric Power Corporation NITSA NOA to be effective 2/1/2014.

Filed Date: 3/4/14.

Accession Number: 20140304-5065.

Comments Due: 5 p.m. ET 3/25/14.

Docket Numbers: ER14-1416-000.

Applicants: Southwest Power Pool, Inc.

Description: 1276R7 KCP&L NITSA NOA to be effective 2/1/2014.

Filed Date: 3/4/14.

Accession Number: 20140304-5072.

Comments Due: 5 p.m. ET 3/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2014.
Nathaniel J. Davis, Sr.,
Deputy Secretary.

[FR Doc. 2014-05325 Filed 3-11-14; 8:45 am]

BILLING CODE 6717-01-P